FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

A & M Ocean Machinery, Inc. (NVO & OFF), 9725 Fontainebleau Blvd., #103, Miami, FL 33172, Officers: Alexandra Parra, Vice President/Secretary (Qualifying Individual), Daniel Gelpi, President, Application Type: Add NVO Service

ADM Logistics, Inc. (NVO & OFF), 4666 Faries Parkway, Decatur, IL 62526, Officers: Craig E. Huss, Director/President (Qualifying Individual), William J. Patterson, Vice President, Application Type: New NVO & OFF License

Amass International Group (New York) Inc. (NVO), Cargo Bldg. 75, North Hangar Road, JFK Intl Air, Suite 200, Jamaica, NY 11430, Officers: Jia (James) H. Bai, Director/Secretary/Treasurer/CFO (Qualifying Individual), Shangen (Garrisun)Ge, President/CEO/Director, Application Type: New NVO License

Ameritrans Freight International (USA), LLC (NVO & OFF), 13723 Harvest Glen Way, Germantown, MD 20874, Officer: Anthony N. Mwangi, Member (Qualifying Individual), Application Type: New NVO & OFF License

ATC Logistics, Inc. (NVO & OFF), 14350 Garfield Avenue, #800, Paramount, CA 90723, Officers: Paul Kang, President/Secretary (Qualifying Individual), Oh S. Kwon, CFO, Application Type: Trade Name Change

Blaser & Mericle Inc. dba Blaser Express (NVO & OFF), 16021 Puritas Avenue, Cleveland, OH 44135, Officers: George Vislosky, Jr., President, Janice M. Forys, Treasurer (Qualifying Individuals), Application Type: Add NVO Service

Delmar International (N.Y.) Inc. dba Delmar International dba Delmar International (USA)(NVO & OFF), 147-55 175th Street, Jamaica, NY 11434, Officers: Ricky K. Ho, Vice President, (Qualifying Individual), Harrison Cutler, Chairman, Application Type: Trade Name Change

Den Helder Inc. (NVO & OFF), 35E 42nd Street, #A1, Bayonne, NJ 07002, Officers: Salil Parkar, Director/CEO (Qualifying Individual), Mrunalini R. Chavarkar, VP/Treasurer/Secretary, Application Type: New NVO & OFF License

Express Forwarding, LLC (NVO & OFF), 922 East E. Street, #B, Wilmington, CA 90744, Officer: Teresa Huang, President (Qualifying Individual), Application Type: Business Structure Change

Foothills Logistics, Inc. (NVO), 2045 John Crosland Jr. Way, Charlotte, NC 28208, Officers: William A. Pottow, Vice President (Qualifying Individual), Janine A. Antonio, President, Application Type: New NVO License

Freight Pro Logistics, Inc. (NVO), 4500 Woodson Road, St. Louis, MO 63134, Officers: Stevie C. Chan, Secretary (Qualifying Individual), Brian Ziha, President, Application Type: New NVO License

Global Shipping & Freight International, Inc. (NVO & OFF), 4815 E. Busch Blvd., Suite 207, Tampa, FL 33617, Officer: Wissam Bahloul, President (Qualifying Individual), Application Type: Add OFF Service

Globaltransol L.L.C. (NVO & OFF), 124 Kukuk Lane, Kingston, NY 12401, Officer: Eric K. Gnakadja, President (Qualifying Individual), Application Type: Add NVO Service

Golden Padlock LLC (NVO & OFF), 17008 Evergreen Place, Suite D, City of Industry, CA 91745, Officer: Zhong (Simon) M. Huang, Member Manager (Qualifying Individual), Lanie Pan, Member Manager, Application Type: New NVO & OFF License

Green Cargo LLC (OFF), 2301 Collins Avenue, #320, Miami Beach, FL 33139, Officer: Patricia Kokaly, Manager/Agent (Qualifying Individual), Application Type: New NVO License

Harvest Shipping, Inc. (NVO & OFF), 14956 Janetdale Street, La Puente, CA 91744, Officer: Peggy P. Shiu, President/CFO/Secretary (Qualifying Individual), Application Type: New NVO & OFF License

Keryx Logistix Corp (NVO & OFF), 5513 NW 72 Avenue, Miami, FL 33166, Officer: Angela Duran, President/Secretary (Qualifying Individual), Application Type: New NVO & OFF License

Kinetix International Logistics, LLC (OFF), 5400 Shawnee Road, #105, Alexandria, VA 22312, Officers: Shayne L. Berlo, Executive Vice President (Qualifying Individual), Grace Bishar, CEO/COO/Secretary/Treasurer, Application Type: New OFF License

LJ International Freight Corp. (NVO), 19 Princeton Drive, Dix Hills, NY 11746, Officer: Danny D. Choi, President/Secretary/Treasurer (Qualifying Individual), Application Type: New NVO License

Miami Warehouse Logistics, Inc. (NVO & OFF), 9251 NW 100th Street, Miami, FL 33178, Officer: Alexis Roldos, President/Secretary (Qualifying Individual), Application Type: Add OFF Service

Mike Mohsen Darabi dba Donya Trading Group (NVO & OFF), 1185 Campbell Avenue, San Jose, CA 95126, Officer: Mike M. Darabi, Sole Proprietor (Qualifying Individual), Application Type: New NVO & OFF License

Mode Transportation, LLC (NVO & OFF), 17330 Preston Road, Suite 200C, Dallas, TX 75252-6035, Officers: Michael F. Hampel, VP for International Operations (Qualifying Individual), David P. Yeager, CEO, Application Type: Business Structure Change

Rapid Express I Corporation (NVO & OFF), 2258 NW 94th Avenue, Doral, FL 33172, Officers: Rene Parajon, Vice President (Qualifying Individual), Mirta Parajon, President/Director, Application Type: New NVO & OFF License

Seven Seas Shipping Incorporated (OFF), 3310 Lilac Avenue, Trevose, PA 19053, Officers: Mona M. Eitagi, Secretary/Treasurer (Qualifying Individual), Application Type: New OFF License

Specialized Overseas Shipping, Incorporated (NVO & OFF), 6425 Tireman Street, Detroit, MI 48204, Officers: Ali Kain, President/Secretary/Treasurer (Qualifying Individual), Meriam Beydoun, Vice President, Application Type: QI Change

T.V.L. Global Logistics Corp. (NVO & OFF), 9550 Flair Drive, #501, El Monte, CA 91731, Officers: Karen C. Luc, Assistant Secretary (Qualifying Individual), Chuang-Hsing Chueh, President, Application Type: New NVO & OFF License

Transatlantic Products and Shipping Services, Incorporated (NVO), 3904 Shirley Drive, Atlanta, GA 30336, Officers: Jimmy Scott, Secretary (Qualifying Individual), Benjamin Aye-Addo, Vice Chief Executive Officer/CFO, Application Type: New NVO License

Transmate Logistics Corp. dba TLC Express Lines (NVO), 222 E. Redondo Beach Blvd., #F, Gardena, CA 90248, Officers: Min H. Park, Director/President/CFO/Secretary (Qualifying Individual), Jung Park, Shareholder, Application Type: QI Change

VMA Global Logistics, Inc. (NVO & OFF), ILA Building 4th Floor, Kennedy Avenue, #409, San Juan, PR 00920, Officers: Migda E. Luciano, Treasurer (Qualifying Individual), Johanna Rodriguez, President, Application Type: New NVO & OFF License

W&L International Express, Inc. (NVO & OFF), 399 Wall Street, Suite L, Glendale Heights, IL 60139, Officer: Long Wang, President (Qualifying Individual), Application Type: Add OFF Service

World Logistics USA, Inc. (OFF), 173 Route 526, Allentown, NJ 08501, Officers: Wladyslaw Kopec, President (Qualifying Individual), Anthony P. Marco, Secretary/Vice President, Application Type: New OFF License

Dated: April 15, 2011.
Rachel E. Dickon,
Assistant Secretary.

[FR Doc. 2011-9617 Filed 4-19-11; 8:45 am]

BILLING CODE 6730-01-P